DEPARTMENT OF HEALTH AND HUMAN SERVICES

Centers for Disease Control and Prevention

National Center for Environmental Health/Agency for Toxic Substances and Disease Registry (NCEH/ATSDR) ATSDR-263; Notice of National Conversation on Public Health and Chemical Exposures Leadership Council Meeting

Time and Date: 1 p.m.-5 p.m. EDT, Tuesday, July 27, 2010.

Location: Teleconference.

Status: The public is invited to listen to the meeting by phone; see “contact for additional information” below.

Purpose: This is the fifth meeting of the National Conversation on Public Health and Chemical Exposures Leadership Council, which is convened by RESOLVE, a non-profit independent consensus-building organization. The National Conversation on Public Health and Chemical Exposures is a collaborative initiative supported by NCEH/ATSDR through which many organizations and individuals are helping develop an action agenda for strengthening the nation's approach to protecting the public's health from harmful chemical exposures. The Leadership Council provides overall guidance to the National Conversation project and is responsible for issuing the final action agenda. For additional information on the National Conversation on Public Health and Chemical Exposures, visit this Web site: http://www.atsdr.cdc.gov/nationalconversation/.

Meeting Agenda: The meeting will include discussing (1) options for developing a results-oriented action agenda, (2) progress on work group reports, (3) updates on the community conversation process, and (4) Leadership Council operations.

Contact for Additional Information: If you would like to receive additional information on listening to the meeting by phone, please contact: nationalconversation@cdc.gov or Ben Gerhardstein at 770-488-3646.

Dated: July 9, 2010.
Tanja Popovic,
Deputy Associate Director for Science, Centers for Disease Control and Prevention.

[FR Doc. 2010-17357 Filed 7-15-10; 8:45 am]

BILLING CODE 4163-70-P